Proclamation 8528 of May 28, 2010

Great Outdoors Month, 2010

By the President of the United States of America

A Proclamation

America’s vast and varied outdoor spaces are a source of great national pride, and we have long strived to protect them for future generations. Our lands and waters provide countless opportunities for exploration, recreation, and reflection, whether in solitude or with family and friends. During Great Outdoors Month, we renew our enduring commitment to protect our natural landscapes, to enjoy them, and to promote active lifestyles for ourselves and our children.

Our outdoor spaces include the farms, ranches, rivers, forests, and working lands that are integral to our culture and economy, as well as our National Parks, local parks, fishing holes, beaches, and other favorite spots that provide space for us to stay active and healthy. These places are especially important today, as an increasing number of Americans, especially children, fall into unhealthy sedentary lifestyles.

This year, I launched the America’s Great Outdoors Initiative to foster innovative, community-driven strategies to protect our natural spaces, and to reconnect Americans with our great outdoors. We are addressing the conservation challenges and opportunities of the 21st century through partnerships with ranchers, farmers, sportsmen, and conservationists; State, local, private, and tribal leaders; educational and service programs like AmeriCorps; and business representatives and other stakeholders. To learn how you can join this effort, visit: www.DOI.gov/AmericasGreatOutdoors.

The America’s Great Outdoors Initiative also builds upon Let’s Move, First Lady Michelle Obama’s effort to help our children eat more nutritious foods, lead healthier lives, and increase their physical activity. Exploring beyond the walls of their homes and schools will help inspire our children to move, run, play, and thrive. I encourage all Americans to visit www.LetsMove.gov to learn more.

In these difficult economic times, renewing our commitment to our natural places will foster jobs in the tourism and recreation industries while conserving our great outdoors. Moreover, as Americans, we are responsible for protecting our heritage, including the raw beauty of our lands and waters. Together, let us rise to meet that responsibility and safeguard our cherished outdoor spaces for our children and grandchildren.

NOW, THEREFORE, I, BARACK OBAMA, President of the United States of America, by virtue of the authority vested in me by the Constitution and the laws of the United States, do hereby proclaim June 2010 as Great Outdoors Month. I urge all Americans to explore the great outdoors and to continue our Nation’s tradition of conserving our lands for future generations.

IN WITNESS WHEREOF, I have hereunto set my hand this twenty-eighth day of May, in the year of our Lord two thousand ten, and of the Independence of the United States of America the two hundred and thirty-fourth.

[FR Doc. 2010-13666

Filed 6-4-10; 8:45 am]

Billing code 3195-W0-P